DEPARTMENT OF HEALTH AND HUMAN SERVICES

Centers for Disease Control and Prevention

Advisory Committee for Injury Prevention and Control, the Science and Program Review Subcommittee: Meeting

In accordance with Section 10(a)(2) of the Federal Advisory Committee Act (Pub. L. 92-463), the Centers for Disease Control and Prevention (CDC) announces the following subcommittee and committee meetings.

Name: Science and Program Review Subcommittee (SPRS).

Times and Dates: 6:30 p.m.-9:30 p.m., June 12, 2006. 8 a.m.-11:30 a.m., June 13, 2006.

Place: Doubletree Hotel Atlanta, 3342 Peachtree Road, NE., Atlanta, GA 30326.

Status: Open: 6:30 p.m.-7 p.m., June 12, 2006. Closed: 7 p.m.-9:30 p.m., June 12, 2006. Closed: 8 a.m.-10 a.m., June 13, 2006. Open: 10 a.m.-11:30 a.m., June 13, 2006.

Purpose: The SPRS provides advice on the needs, structure, progress and performance of programs of the National Center for Injury Prevention and Control (NCIPC), as well as second-level scientific and programmatic review for applications for research grants, cooperative agreements, and training grants related to injury control and violence prevention, and recommends approval of projects that merit further consideration for funding support. The SPRS also advises on priorities for research to be supported by contracts, grants, and cooperative agreements and provides concept review of program proposals and announcements.

Matters to be Discussed: The subcommittee will meet June 12-13 to provide a secondary review, discuss, and evaluate grant applications and cooperative agreements received in response to eight Request for Applications (RFAs) related to the following individual applications: #06001, Research Grants to Prevent Unintentional Injuries; #06002, Dissertation Grant Awards for Violence Injury Research in Minority Communities; #06003, Research Grants to Describe Traumatic Brain Injury Consequences; #06004, Grants for Violence-Related Injury Prevention Research; #06005, Research Grants for the Care of the Acutely Injured; #06006, Using Technology to Augment Effectiveness of Parenting Programs; #06007, Evaluation of Community-Based Approaches to Increasing Seat Belt Use among Adolescents and Their Passengers; #06008, Urban Partnership Academic Centers of Excellence. This portion of the meeting (7 p.m.-9:30 p.m., June 12, 2006, and 8 a.m.-10 a.m., June 13, 2006) will be closed to the public in accordance with provisions set forth in Section 552b(c)(4) and (6), Title 5, U.S.C., and the Determination of the Director, Management Analysis and Services Office, CDC, pursuant to Public Law 92-463.

Agenda items are subject to change as priorities dictate.

Name: Advisory Committee for Injury Prevention and Control.

Times and Dates: 1 p.m.-5:30 p.m., June 13, 2006. 8:30 a.m.-12 p.m., June 14, 2006.

Place: Doubletree Hotel Atlanta, 3342 Peachtree Road, NE., Atlanta, GA 30326.

Status: Closed: 1 p.m.-1:45 p.m., June 13, 2006. Open: 1:45 p.m.-5:30 p.m., June 13, 2006. Open: 8:30 a.m.-12 p.m., June 14, 2006.

Purpose: The committee advises and makes recommendations to the Secretary, Department of Health and Human Services, the Director, CDC, and the Director, NCIPC, regarding feasible goals for the prevention and control of injury. The committee makes recommendations regarding policies, strategies, objectives, and priorities, and reviews progress toward injury prevention and control.

Matters to be Discussed: From 1 p.m.-1:45 p.m., June 13, 2006 the full committee will vote on the results of secondary review. This portion of the meeting will be closed to the public in accordance with provisions set forth in section 552(b)(4) and (6), title 5 U.S.C., and the Determination of the Director, Management Analysis and Services Office, CDC, pursuant to Public Law 92-463. Following the closed session, the meeting will open to the public.

Agenda items are subject to change as priorities dictate.

For Further Information Contact: Ms. Louise Galaska, Executive Secretary, ACIPC, NCIPC, CDC, 4770 Buford Highway, NE., M/S K02, Atlanta, Georgia 30341-3724, telephone (770) 488-4694.

The Director, Management Analysis and Services Office, has been delegated the authority to sign Federal Register notices pertaining to announcements of meetings and other committee management activities, for both CDC and the Agency for Toxic Substances and Disease Registry.

Dated: May 5, 2006.
Alvin Hall,
Director, Management Analysis and Services Office, Centers for Disease Control and Prevention.

[FR Doc. E6-7209 Filed 5-10-06; 8:45 am]

BILLING CODE 4163-18-P